SECURITIES AND EXCHANGE COMMISSION

[File No. 500-1]

In the Matter of Patriot Energy Corp.; Order of Suspension of Trading

June 2, 2009.

It appears to the Securities and Exchange Commission that there is a lack of current and accurate information concerning the securities of Patriot Energy Corporation because of questions regarding the accuracy of assertions by Patriot Energy Corporation in press releases to investors concerning, among other things: (1) The company's business agreements and (2) a tender offer for Patriot Energy Corporation's outstanding shares.

The Commission is of the opinion that the public interest and the protection of investors require a suspension of trading in the securities of Patriot Energy Corp.

Therefore, it is ordered, pursuant to Section 12(k) of the Securities Exchange Act of 1934, that trading in the securities Patriot Energy Corp. is suspended for the period from 9:30 a.m. EDT on June 2, 2009, through 11:59 p.m. EDT, on June 15, 2009.

By the Commission.
Jill M. Peterson,
Assistant Secretary.

[FR Doc. E9-13144 Filed 6-2-09; 4:15 pm]

BILLING CODE 8010-01-P